COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds services to the Procurement List that will be provided by nonprofit agencies employing persons who are blind or have other severe disabilities, and deletes services from the Procurement List previously provided by such agencies.

DATES: Effective Date: 8/15/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 5/13/2011 (76 FR 28000-28001); 5/20/2011 (76 FR 29210-29211); and 5/27/2011 (76 FR 30923-30924), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Total Facility Maintenance, FCC—Equipment Developmental Group, 3600 Hiram-Lithia Springs Road, SW., Hiram, GA.

NPA: Bobby Dodd Institute, Inc., Atlanta, GA.

Contracting Activity: Federal Communications Commission, Washington, DC.

Service Type/Location: Janitorial Services, Muskogee Armed Force Reserve Center, 6800 S. Cherokee St., Muskogee, OK.

NPA: Golden Rule Industries of Muskogee, Inc., Muskogee, OK.

Contracting Activity: Dept of the Army, W7NV USPFO activity OK ARNG, Oklahoma, OK.

Service Type/Location Custodial and Maintenance Services, NOAA-Atlantic Oceanographic & Meteorological Laboratory (AOML), 4301 Rickenbacker Causeway, Miami, FL.

NPA: Goodwill Industries of South Florida, Inc., Miami, FL.

Contracting Activity: Dept of Commerce, National Oceanic and Atmospheric Administration, Kansas City, MO.

Service Type/Locations: Administrative Support Services, Communications Security Logistics Activity (USACSLA) Aberdeen Proving Ground, MD, Communications Security Logistics Activity (USACSLA), Fort Huachuca, AZ, U.S. Army Information Systems Engineering Command (USAISEC), Fort Huachuca, AZ.

NPA: DePaul Industries, Portland, OR.

Contracting Activity: Dept of the Army, W4GV FLD OFC FT HUACHUCA, Fort Huachuca, AZ.

Deletions

On 5/13/2011 (76 FR 28000-28001), the Committee for Purchase From People Who Are Blind or Severely Disabled published notice of proposed deletions from the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Records Management Service, Veterans Affairs Medical Center, 4100 West 3rd Street, Dayton, OH.

NPA: Goodwill Easter Seals Miami Valley, Dayton, OH.

Contracting Activity: Department of Veterans Affairs, Dayton, OH.

Service Type/Location: Grounds Maintenance, Federal Service Center, 5600 Rickenbacker Road, Bell, CA.

NPA: Braswell Rehabilitation Institute for Development of Growth & Educational Services, Inc., Pomona, CA.

Contracting Activity: General Services Administration, FPDS Agency Coordinator, Washington, DC.

Service Type/Location: Janitorial/Custodial, U.S. Army Reserve Center: Major Bias, Huntington, WV.

NPA: Goodwill Industries of KYOWVA Area, Inc., Huntington, WV.

Contracting Activity: Dept of the Army, W40M Natl Region Contract OFC, Washington, DC.

Barry S. Lineback,
Director, Business Operations.

[FR Doc. 2011-17862 Filed 7-14-11; 8:45 am]

BILLING CODE 6353-01-P